DEPARTMENT OF ENERGY

U.S. Energy Information Administration

Agency Information Collection Extension

AGENCY: U.S. Energy Information Administration (EIA), U.S. Department of Energy.

ACTION: Agency information collection activities: Information collection extension; Notice and request for comments.

SUMMARY: EIA, pursuant to the Paperwork Reduction Act of 1995, intends to extend for three years the petroleum marketing survey forms listed below with the Office of Management and Budget (OMB):

EIA-14, “Refiners' Monthly Cost Report;”

EIA-182, “Domestic Crude Oil First Purchase Report;”

EIA-782A, “Refiners'/Gas Plant Operators' Monthly Petroleum Product Sales Report;”

EIA-782C, “Monthly Report of Prime Supplier Sales of Petroleum Products Sold For Local Consumption;”

EIA-821, “Annual Fuel Oil and Kerosene Sales Report;”

EIA-856, “Monthly Foreign Crude Oil Acquisition Report;”

EIA-863, “Petroleum Product Sales Identification Survey;”

EIA-877, “Winter Heating Fuels Telephone Survey;”

EIA-878, “Motor Gasoline Price Survey;”

EIA-888, “On-Highway Diesel Fuel Price Survey;”

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 7, 2012. If you anticipate difficulty in submitting comments within that period, contact the person listed below as soon as possible.

ADDRESSES: Send comments to Shawna Waugh. To ensure receipt of the comments by the due date, submission by FAX (202) 586-9739 or email (Shawna.Waugh@eia.gov) is recommended. The mailing address is Petroleum and Biofuels Statistics EI-25, Forrestal Building, U.S. Department of Energy, Washington, DC 20585. Alternatively, Shawna Waugh can be contacted by telephone at (202) 586-6484.

FOR FURTHER INFORMATION CONTACT: Requests for additional information or copies of the information collection instrument and instructions should be directed to Shawna Waugh at the address listed above. Additionally, the draft forms and instructions may be viewed at http://www.eia.gov/survey.

SUPPLEMENTARY INFORMATION: This information collection request contains:

(1) OMB No. 1905-0174;

(2) Information Collection Request Title: Petroleum Marketing Program;

(3) Type of Request: Renewal with change;

(4) Purpose:

The Federal Energy Administration Act of 1974 (15 U.S.C. §§ 761 et seq.) and the DOE Organization Act (42 U.S.C. §§ 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. 3501, et seq.), provides the general public and other Federal agencies with opportunities to comment on collections of energy information conducted by or in conjunction with EIA. Also, EIA will later seek approval for this collection by the Office of Management and Budget (OMB) under Section 3507(a) of the Paperwork Reduction Act of 1995.

EIA's petroleum marketing survey forms collect volumetric and price information needed for determining the supply of and demand for crude oil and refined petroleum products. These surveys provide a basic set of data pertaining to the structure, efficiency, and behavior of petroleum markets. These data are published by EIA on its Web site, http://www.eia.gov, as well as in publications such as the Monthly Energy Review (http://www.eia.gov/totalenergy/data/monthly/), Annual Energy Review (http://www.eia.gov/totalenergy/data/annual/), Petroleum Marketing Monthly (http://www.eia.gov/oil_gas/petroleum/data_publications/petroleum_marketing_monthly/pmm.html), Week Petroleum Status Report (http://www.eia.gov/oil_gas/petroleum/data_publications/weekly_petroleum_status_report/wpsr.html), and the International Energy Outlook (http://www.eia.gov/forecasts/ieo/);

(4a) Proposed Changes to Information Collection:

EIA will be requesting a three-year extension of approval to continue collecting ten petroleum marketing surveys (Forms EIA-14, EIA-182, EIA-782A, EIA-782C, EIA-821, EIA-856, EIA-863, EIA-877, EIA-878, and EIA-888) with the only substantive changes to the survey forms and instructions being the elimination of collecting information on No. 2 diesel fuel low-sulfur categories on Forms EIA-782A, EIA-821 and EIA-888. EIA proposes not to collect information on No. 2 diesel fuel sales through company operated outlets for diesel fuel with sulfur content of >15 and <=500 ppm on Form EIA-782A, and the category On-Highway Diesel Fuel use with sulfur content of >15 and <=500 ppm on Form EIA-821. EIA proposes not to collect price information for on-highway low sulfur diesel fuel on Form EIA-888. The proposed form changes are necessary because regulations issued by the U.S. Environmental Protection Agency prohibit the sale of low sulfur No. 2 diesel fuel with sulfur content of >15 and <=500 ppm for on-highway use. EIA does not seek renewal of the Form EIA-782B, “Resellers'/Retailers' Monthly Petroleum Product Sales Report” as part of this information collection. EIA suspended the use of Form EIA-782B in May, 2011, due to resource constraints and notified the respondents in the reporting sample by letter dated May 23, 2011 that they were no longer required to file this report.

Information Collection Burden Estimates

(5) Annual Estimated Number of Respondents: 11,953 Respondents;

(6) Annual Estimated Number of Total Responses: 106,661 Responses per year;

(7) Annual Estimated Number of Burden Hours: 56,186 hours per year;

(8) Annual Estimated Reporting and Recordkeeping Cost Burden: EIA estimates that there are no additional costs to respondents associated with the surveys other than the costs associated with the burden hours.

Statutory Authority: Section 13(b) of the Federal Energy Administration Act of 1974, Pub. L. 93-275, codified at 15 U.S.C. 772(b) and Pub. L. 94-163 (Energy Policy and Conservation Act), Sec. 507.

Issued in Washington, DC, February 28, 2012.
Barbara Fichman,
Acting Director, Office of Survey Development and Statistical Integration, U.S. Energy Information Administration.

[FR Doc. 2012-5386 Filed 3-5-12; 8:45 am]

BILLING CODE 6450-01-P